DEPARTMENT OF ENERGY

Federal Energy Regulatory Commission

[Docket No. EL06-48-000]

Braintree Electric Light Department; Notice of Filing

May 2, 2006.

On January 19, 2006, Braintree Electric Light Department (Braintree) filed a petition for declaratory order requesting that the Commission determine that the rates and changes associated with a reliability must-run agreement between Braintree and ISO-NE for Braintree's 96 MW, dual-fuel, combined cycle Potter 2 generating facility will satisfy the “just and reasonable” criteria of section 205 of the Federal Power Act.

On March 23, 2006, the Director, Division of Markets and Tariff Development—East of the Commission's Office of Energy Markets and Reliability issued, in the above-captioned proceeding, a letter asking Braintree to submit additional information. The Director's March 23 letter further noted that “these questions will require consultation with ISO New England (ISO-NE).”

Take notice that on April 19, 2006 ISO-NE filed a response to the Director's March 23, 2006 letter.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 12, 2006.

Magalie R. Salas,
Secretary.

[FR Doc. E6-6965 Filed 5-8-06; 8:45 am]

BILLING CODE 6717-01-P